RAILROAD RETIREMENT BOARD

Agency Forms Submitted for OMB Review, Request for Comments

Summary: In accordance with the Paperwork Reduction Act of 1995 (44 U.S.C. Chapter 35), the Railroad Retirement Board (RRB) is forwarding two Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Survivor Questionnaire; OMB 3220-0032.

Under Section 6 of the Railroad Retirement Act (RRA), benefits that may be due on the death of a railroad employee or a survivor annuitant include (1) a lump-sum death benefit (2) a residual lump-sum payment (3) accrued annuities due but unpaid at death, and (4) monthly survivor insurance payments. The requirements for determining the entitlement of possible beneficiaries to these benefits are prescribed in 20 CFR 234.

When the Railroad Retirement Board (RRB) receives notification of the death of a railroad employee or survivor annuitant, an RRB field office utilizes Form RL-94-F, Survivor Questionnaire, to secure additional information from surviving relatives needed to determine if any further benefits are payable under the RRA. Completion is voluntary. One response is requested of each respondent.

Previous Requests for Comments: The RRB has already published the initial 60-day notice (77 FR 51834 on August 27, 2012) required by 44 U.S.C. 3506(c)(2). That request elicited no comments.

Information Collection Request (ICR)

Title: Survivor Questionnaire .

OMB Control Number: 3220-0032.

Form(s) submitted: RL-94-F.

Type of request: Revision of a currently approved collection.

Affected public: Individuals or Households.

Abstract: Under Section 6 of the Railroad Retirement Act, benefits are payable to the survivors of the estates of deceased railroad employees. The collection obtains information used to determine if and to whom benefits are payable; such as a widow(er) due survivor benefits, an executor of the estate, or a payer of burial expenses.

Changes proposed: The RRB proposes collecting identifying information when a trustee pays the burial expenses; minor non-burden impacting clarification; and editorial changes to Form RL-94-F.

The burden estimate for the ICR is as follows:

Form No. | Annual responses | Time (minutes) | Burden (hours)
RL-94-F, Items 5-10, and 18 | 50 | 9 | 8
RL-94-F, Items 5-18 | 7,200 | 11 | 1,320
RL-94-F, Item 18 only | 750 | 5 | 63
Total | 8,000 |  | 1,391

2. Title and Purpose of information collection: Request for Medicare Payment; OMB 3220-0131.

Under Section 7(d) of the Railroad Retirement Act, the RRB administers the Medicare program for persons covered by the railroad retirement system. The collection obtains the information needed by Palmetto GBA, the Medicare carrier for railroad retirement beneficiaries, to pay claims for payments under Part B of the Medicare program. Authority for collecting the information is prescribed in 42 CFR 424.32.

The RRB currently utilizes Forms G-740S, Patient's Request for Medicare Payment, along with Centers for Medicare & Medicaid Services Form CMS-1500, to secure the information necessary to pay Part B Medicare Claims. One response is completed for each claim. Completion is required to obtain a benefit.

Previous Requests for Comments: The RRB has already published the initial 60-day notice (77 FR 51834 on September 4, 2012) required by 44 U.S.C. 3506(c)(2). That request elicited no comments.

Information Collection Request (ICR)

Title: Request for Medicare Payment.

OMB Control Number: 3220-0131.

Form(s) submitted: G-740S, CMS-1500.

Type of request: Revision of a currently approved collection.

Affected public: Individuals or Households.

Abstract: The RRB administers the Medicare program for persons covered by the Railroad Retirement System. The collection obtains the information needed by Palmetto GBA, the RRB's carrier, to pay claims for services covered under Part B of the program.

Changes proposed: The RRB is proposing minor, non-burden impacting editorial and cosmetic changes to RRB Form G-740S.

The burden estimate for the ICR is as follows:

Estimated annual number of respondents: See Justification (Item No. 12).

Total annual responses: 1.

Total annual reporting hours: 1.

3. Title and Purpose of information collection: Employer's Deemed Service Month Questionnaire; OMB 3220-0156.

Section 3(i) of the Railroad Retirement Act (RRA), as amended by Public Law 98-76, provides that the Railroad Retirement Board (RRB), under certain circumstances, may deem additional months of service in cases where an employee does not actually work in every month of the year, provided the employee satisfies certain eligibility requirements, including the existence of an employment relation between the employee and his or her employer. The procedures pertaining to the deeming of additional months of service are found in the RRB's regulations at 20 CFR 210, Creditable Railroad Service.

The RRB utilizes Form GL-99, Employer's Deemed Service Months Questionnaire, to obtain service and compensation information from railroad employers to determine if an employee can be credited with additional deemed months of railroad service. Completion is mandatory. One response is required for each RRB inquiry.

Previous Requests for Comments: The RRB has already published the initial 60-day notice (77 FR 51834 on August 27, 2012) required by 44 U.S.C. 3506(c)(2). That request elicited no comments.

Information Collection Request (ICR)

Title: Employer's Deemed Service Month Questionnaire.

OMB Control Number: 3220-0156.

Form(s) submitted: GL-99.

Type of request: Revision of a currently approved collection.

Affected public: Individuals or Households.

Abstract: Under Section 3(i) of the Railroad Retirement Act, the Railroad Retirement Board may deem months of service in cases where an employee does not actually work in every month of the year. The collection obtains service and compensation information from railroad employers needed to determine if an employee may be credited with additional months of railroad service.

Changes proposed: The RRB is proposing revisions to Form GL-99 to obtain only a “Yes” or “No” response regarding whether an employee was in an employment relationship with an employer during any months indicated on the GL-99 as not worked. Other minor non-burden impacting editorial changes are also proposed.

The burden estimate for the ICR is as follows:

Form No. | Annual responses | Time (minutes) | Burden (hours)
GL-99 | 4,000 | 2 | 133

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois 60611-2092 or Charles.Mierzwa@RRB.GOV and to the OMB Desk Officer for the RRB, Fax: 202-395-6974, Email address: OIRA_Submission@omb.eop.gov.

Charles Mierzwa,
Chief of Information Resources Management.

[FR Doc. 2012-28124 Filed 11-19-12; 8:45 am]

BILLING CODE 7905-01-P